DEPARTMENT OF COMMERCE

International Trade Administration

[A-570-803]

Heavy Forged Hand Tools, Finished or Unfinished, With or Without Handles From the People's Republic of China: Final Results of the Expedited Fourth Sunset Review of the Antidumping Duty Orders

AGENCY: Enforcement and Compliance, International Trade Administration, Department of Commerce.

SUMMARY: As a result of this sunset review, the Department of Commerce (the “Department”) finds that revocation of the antidumping duty orders on heavy forged hand tools, finished or unfinished, with or without handles (“HFHTs”) from the People's Republic of China (“PRC”) would be likely to lead to continuation or recurrence of dumping at the levels indicated in the “Final Results of Review” section of this notice.

DATES: Effective October 31, 2016.

FOR FURTHER INFORMATION CONTACT: Paul Walker, AD/CVD Operations, Enforcement and Compliance, International Trade Administration, U.S. Department of Commerce, 14th Street and Constitution Avenue NW., Washington, DC 20230; telephone: 202.482.0413.

SUPPLEMENTARY INFORMATION: On February 19, 1991, the Department published the notice of the antidumping duty order on HFHTs from the PRC.¹ On July 1, 2016, the Department published the notice of initiation of the fourth sunset review of the AD Orders on HFHTs from the PRC, pursuant to section 751(c) of the Tariff Act of 1930, as amended (the “Act”).² In July 2016, the Department received a notice of intent to participate from, each, AMES True Temper (“AMES”) ³ and Council Tool Company, Inc. (“Council Tool”),⁴ domestic interested parties, within the deadline specified in 19 CFR 351.218(d)(1)(i).⁵ AMES and Council Tool, each, claimed interested party status under section 771(9)(C) of the Act as a manufacturer in the United States of a domestic like product. On August 1, 2016, the Department received an adequate substantive response from AMES and Council Tool within the 30-day deadline specified in 19 CFR 351.218(d)(3)(i).⁶ The Department received no substantive responses from respondent interested parties. As a result, the Department conducted an expedited (120-day) sunset review of the AD Orders, pursuant to section 751(c)(3)(B) of the Act and 19 CFR 351.218(e)(1)(ii)(C)(2).

¹ See Antidumping Duty Orders: Heavy Forged Hand Tools, Finished or Unfinished, With or Without Handles from the People's Republic of China, 56 FR 6622 (February 19, 1991) (“AD Orders”). There are four orders on HFHTs from the PRC: Axes & adzes, bars & wedges, hammers & sledges, and picks & mattocks.

² See Initiation of Five-Year (“Sunset”) Review, 81 FR 43185 (July 1, 2016). This notice inadvertently referred to this segment as the third review, however, this is the fourth sunset review of these orders.

³ AMES is the successor company to Woodings-Verona Tools Works, the petitioner in the original investigation.

⁴ See Council Tool's July 11, 2016 submission; and AMES' July 18, 2016 submission.

⁵ Pursuant 19 CFR 351.303(b)(1), because the 15-day deadline fell on Saturday, July 16, 2016, a non-business day, AMES' submission that was filed on the next business day (i.e., Monday, July 18, 2016) was accepted as timely.

⁶ See AMES' and Council Tool's August 1, 2016 submissions.

Scope of the Orders

The merchandise covered by these orders are hand tools comprising the following classes or kinds of merchandise: (1) Hammers and sledges with heads over 1.5 kg (3.33 pounds); (2) bars over 18 inches in length, track tools and wedges; (3) picks and mattocks; and (4) axes, adzes and similar hewing tools. Subject hand tools are manufactured through a hot forge operation in which steel is sheared to required length, heated to forging temperature, and formed to final shape on forging equipment using dies specific to the desired product shape and size. These products are classifiable under tariff article codes 8205.20.60, 8205.59.30, 8201.30.00, and 8201.40.60 of the Harmonized Tariff Schedule of the United States (“HTSUS”). Although the HTSUS subheadings are provided for convenience and customs purposes, the written description of the scope of this proceeding, which is contained in the accompanying Issues and Decision Memorandum, is dispositive.⁷

⁷ See Memorandum from Christian Marsh, Deputy Assistant Secretary for Antidumping and Countervailing Duty Operations, to Paul Piquado, Assistant Secretary for Enforcement and Compliance, “Fourth Expedited Sunset Review of the Antidumping Duty Orders on Heavy Forged Hand Tools, Finished or Unfinished, With or Without Handles From the People's Republic of China: Issues and Decision Memorandum for the Final Results,” dated concurrently with, and hereby adopted by, this notice (“Issues and Decision Memorandum”).

Analysis of Comments Received

A complete discussion of all issues raised in this sunset review, including the likelihood of continuation or recurrence of dumping in the event of revocation of the AD Orders and the magnitude of the margins likely to prevail if the orders were revoked, is provided in the Issues and Decision Memorandum. The Issues and Decision Memorandum is a public document and is on file electronically via Enforcement and Compliance's Antidumping and Countervailing Duty Centralized Electronic Services System (“ACCESS”). ACCESS is available to registered users at http://iaaccess.trade.gov and to all parties in the Central Records Unit, Room B0824 of the main Department of Commerce building. In addition, a complete version of the Issues and Decision Memorandum can be accessed on the Internet at http://enforcement.trade.gov/frn/. The signed Issues and Decision Memorandum and the electronic version of the Issues and Decision Memorandum are identical in content.

Final Results of Sunset Review

Pursuant to section 751(c)(1) and 752(c)(1) and (3) of the Act, the Department determines that revocation of the AD Orders would be likely to lead to continuation or recurrence of dumping, and that the magnitude of the dumping margins likely to prevail would be weighted-average margins up to those listed in the chart below:

HFHT Order | Weighted- average margin (percent)
Axes/Adzes | 15.02
Picks/Mattocks | 50.81
Bars/Wedges | 31.76
Hammers/Sledges | 45.42

Notification to Interested Parties

This notice serves as the only reminder to parties subject to administrative protective order (“APO”) of their responsibility concerning the return or destruction of proprietary information disclosed under APO in accordance with 19 CFR 351.305. Timely notification of the return or destruction of APO materials, or conversion to judicial protective order, is hereby requested. Failure to comply with the regulations and terms of an APO is a violation which is subject to sanction.

We are issuing and publishing these results and notice in accordance with sections 751(c), 752(c), and 777(i)(1) of the Act, 19 CFR 351.218, and 19 CFR 351.221(c)(5)(ii).

Dated: October 31, 2016.
Paul Piquado,
Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of Dumping

2. Magnitude of the Margins Likely to Prevail

VII. Final Results of Review

VIII. Recommendation

[FR Doc. 2016-27079 Filed 11-8-16; 8:45 am]

BILLING CODE 3510-DS-P